DEPARTMENT OF VETERANS AFFAIRS

[OMB Control No. 2900-NEW]

Proposed Information Collection (Access to Care Dialysis Pilot Survey and Interview); Activity: Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments on the information needed to evaluate the VA Dialysis Pilot program for the treatment of End Stage Renal Disease (ESRD) to improve access to dialysis care for Veterans.

DATES: Written comments and recommendations on the proposed collection of information should be received on or before October 21, 2013.

ADDRESSES: Submit written comments on the collection of information through Federal Docket Management System (FDMS) at www.Regulations.gov; or to Cynthia Harvey-Pryor, Veterans Health Administration (10B4), Department of Veterans Affairs, 810 Vermont Avenue NW., Washington, DC 20420; or email: cynthia.harvey-pryor@va.gov. Please refer to “OMB Control No. 2900-NEW (Access to Care Dialysis Pilot Survey and Interview)” in any correspondence. During the comment period, comments may be viewed online through the FDMS.

FOR FURTHER INFORMATION CONTACT: Cynthia Harvey-Pryor at (202) 461-5870 or fax (202) 495-5397.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Access to Care Dialysis Pilot Survey and Interview, VA Form 10-10067.

a. Access to Care Questionnaire, VA Form 10-10067.

b. Access to Care Semi-Structured Interview Guide.

OMB Control Number: 2900-NEW (Access to Care Dialysis Pilot Survey and Interview).

Type of Review: New collection.

Abstract: The Access to Care assessment will provide an independent evaluation and analysis of barriers and facilitators that Veterans may experience while accessing the pilot VA-operated freestanding outpatient dialysis clinics. The information will be used to evaluate the performance of each pilot VA-operated free-standing dialysis clinic across the domains of quality of care; patient satisfaction; access to dialysis care; and cost.

Affected Public: Individuals or households.

Estimated Annual Burden: 50.

Estimated Average Burden per Respondent: 75 minutes.

Frequency of Response: One-time.

Estimated Number of Respondents: 40.

Dated: August 15, 2013.
By direction of the Secretary.
Crystal Rennie,
VA Clearance Officer, U.S. Department of Veterans Affairs.

[FR Doc. 2013-20222 Filed 8-19-13; 8:45 am]

BILLING CODE 8320-01-P